DEPARTMENT OF THE INTERIOR

Bureau of Land Management

[OR-080-5882-PF-SB01; GP3-0198]

Salem District Resource Advisory Committee (RAC) Meetings

AGENCY: Bureau of Land Management, USDI.

ACTION: Meeting notice for the Salem, Oregon, Bureau of Land Management (BLM) Resource Advisory Committee under Section 205 of the Secure Rural Schools and Community Self Determination Act of 2000 (PL 106-393).

SUMMARY: This notice is published in accordance with section 10(a)(2) of the Federal Advisory Committee Act. Meeting notice is hereby given for the Salem Oregon BLM Resource Advisory Committee pursuant to Section 205 of the Secure Rural Schools and Community Self Determination Act of 2000, Public Law 106-393 (the Act). Topics to be discussed by the Salem BLM Resource Advisory Committee include: reviewing 2004 project applications, developing funding recommendations for 2004 projects, and monitoring progress of previously approved projects and scheduling field reviews of projects.

DATES: The Salem Resource Advisory Committee will meet at the BLM Salem District Office, 1717 Fabry Road, Salem, Oregon 97306, 8:30 a.m. to 4 p.m., on August 7, 2003. Additional meeting dates are scheduled for August 14, 2003 and August 28, 2003.

SUPPLEMENTARY INFORMATION: Pursuant to the Act, five Resource Advisory Committees have been formed for western Oregon BLM districts that contain Oregon & California (O&C) Grant Lands and Coos Bay Wagon Road lands. The Act establishes a six-year payment schedule to local counties in lieu of funds derived from the harvest of timber on federal lands, which have dropped dramatically over the past 10 years.

The Act creates a new mechanism for local community collaboration with federal land management activities in the selection of projects to be conducted on federal lands or that will benefit resources on federal lands using funds under Title II of the Act. The BLM Resource Advisory Committees consist of 15 local citizens (plus 6 alternates) representing a wide array of interests.

FOR FURTHER INFORMATION CONTACT: Additional information concerning the Salem BLM Resource Advisory Committee may be obtained from Trish Hogervorst, Salem BLM Public Affairs, 1717 Fabry Road SE, Salem, Oregon 97306. (503-375-5657).

Dated: June 16, 2003.
Denis Williamson,
Salem District Manager.

[FR Doc. 03-15721 Filed 6-20-03; 8:45 am]

BILLING CODE 4310-33-P